DEPARTMENT OF COMMERCE

International Trade Administration

[A-122-866]

Sodium Sulfate Anhydrous From Canada: Initiation of Less-Than-Fair-Value Investigation

AGENCY: Enforcement and Compliance, International Trade Administration, Department of Commerce.

DATES: Applicable April 17, 2019.

FOR FURTHER INFORMATION CONTACT: Scott Hoefke or Daniel Deku at (202) 482-4947 or (202) 482-5075, respectively; AD/CVD Operations, Enforcement and Compliance, International Trade Administration, U.S. Department of Commerce, 1401 Constitution Avenue NW, Washington, DC 20230.

SUPPLEMENTARY INFORMATION:

The Petition

On March 28, 2019, the U.S. Department of Commerce (Commerce) received an antidumping duty (AD) petition concerning imports of sodium sulfate anhydrous (sodium sulfate) from Canada, filed in proper form, on behalf of Cooper Natural Resources, Inc.; Elementis Global LLC; and Searles Valley Minerals, Inc. (collectively, the petitioners).¹

¹ See Petitioners' Letter, “Petition for the Imposition of Antidumping Duties: Sodium Sulfate Anhydrous from Canada,” dated March 27, 2019 (the Petition). The Petition was filed with Commerce and the U.S. International Trade Commission (ITC) on March 27, 2019, after 12:00 noon, and pursuant to 19 CFR 207.10(a), is deemed to have been filed with the ITC on the next business day, March 28, 2019. Because section 732(b)(2) of the Tariff Act of 1930, as amended (the Act) requires simultaneous filing of the petition with Commerce and the ITC, Commerce deemed the petition to have been filed with Commerce on March 28, 2019. See Memorandum, “Decision Memorandum Concerning the Filing Date of the Petition,” dated April 1, 2019 (Petition Filing Memo).

Between April 1 and April 5, 2019, Commerce requested supplemental information pertaining to certain aspects of the Petition.² The petitioners filed responses to these requests on April 3 and April 9, 2019.³

² See Commerce's Letter, “Petition for the Imposition of Antidumping Duties on Imports of Sodium Sulfate Anhydrous from Canada: Supplemental Questions” (Petition Supplemental Questionnaire), dated April 1, 2019; see also Memorandum, “Phone Call with Counsel to the Petitioners,” dated April 5, 2019.

³ See Petitioners' Letter, “Petitioners' Responses to Department of Commerce Deficiency Questions: Sodium Sulfate Anhydrous from Canada,” dated April 3, 2019 (General Issues and AD Supplement); see also Petitioners' Letter, “Petitioners' Supplemental Responses to Department of Commerce Deficiency Questions: Sodium Sulfate Anhydrous from Canada,” dated April 9, 2019 (Second General Issues and AD Supplement).

In accordance with section 732(b) of the Act, the petitioners allege that imports of sodium sulfate from Canada are being, or are likely to be, sold in the United States at less than fair value (LTFV) within the meaning of section 731 of the Act, and that such imports are materially injuring, or threatening material injury to, the domestic industry producing sodium sulfate in the United States. Consistent with section 732(b)(1) of the Act, the Petition is accompanied by information reasonably available to the petitioners supporting their allegations.

Commerce finds that the petitioners filed the Petition on behalf of the domestic industry, because the petitioners are interested parties as defined in section 771(9)(C) of the Act. Commerce also finds that the petitioners demonstrated sufficient industry support with respect to the initiation of the requested AD investigation.⁴

⁴ See the “Determination of Industry Support for the Petition” section, infra.

Period of Investigation

Because the Petition was filed on March 28, 2019,⁵ the period of investigation (POI) for the investigation is January 1, 2018, through December 31, 2018.⁶

⁵ See Petition Filing Memo.

⁶ See 19 CFR 351.204(b)(1).

Scope of the Investigation

The product covered by this investigation is sodium sulfate from Canada. For a full description of the scope of this investigation, see the Appendix to this notice.

Comments on Scope of the Investigation

During our review of the Petition, Commerce issued questions to, and received responses from, the petitioners pertaining to the proposed scope, to ensure that the scope language in the Petition is an accurate reflection of the products for which the domestic industry is seeking relief.⁷ No modifications were made to the scope of the Petition as a result of these exchanges.

⁷ See Petition Supplemental Questionnaire, at 3; see also General Issues and AD Supplement, at 2.

As discussed in the Preamble to Commerce's regulations, we are setting aside a period for interested parties to raise issues regarding product coverage (scope).⁸ Commerce will consider all comments received from interested parties and, if necessary, will consult with interested parties prior to the issuance of the preliminary determinations. If scope comments include factual information,⁹ all such factual information should be limited to public information. To facilitate preparation of its questionnaires, Commerce requests that all interested parties submit such comments by 5:00 p.m. Eastern Time (ET) on May 7, 2019, which is 20 calendar days from the signature date of this notice.¹⁰ Any rebuttal comments, which may include factual information, must be filed by 5:00 p.m. ET on May 17, 2019, which is 10 calendar days from the initial comment deadline.

⁸ See Antidumping Duties; Countervailing Duties, Final Rule, 62 FR 27296, 27323 (May 19, 1997).

⁹ See 19 CFR 351.102(b)(21) (defining “factual information”).

¹⁰ See 19 CFR 351.303(b).

Commerce requests that any factual information parties consider relevant to the scope of the investigation be submitted during this period. However, if a party subsequently finds that additional factual information pertaining to the scope of the investigation may be relevant, the party may contact Commerce and request permission to submit the additional information on the record the investigation.

Filing Requirements

All submissions to Commerce must be filed electronically using Enforcement and Compliance's Antidumping Duty and Countervailing Duty Centralized Electronic Service System (ACCESS).¹¹ An electronically filed document must be received successfully in its entirety by the time and date it is due. Documents exempted from the electronic submission requirements must be filed manually (i.e., in paper form) with Enforcement and Compliance's APO/Dockets Unit, Room 18022, U.S. Department of Commerce, 1401 Constitution Avenue NW, Washington, DC 20230, and stamped with the date and time of receipt by the applicable deadlines.

¹¹ See Antidumping and Countervailing Duty Proceedings: Electronic Filing Procedures; Administrative Protective Order Procedures, 76 FR 39263 (July 6, 2011); see also Enforcement and Compliance; Change of Electronic Filing System Name, 79 FR 69046 (November 20, 2014) for details of Commerce's electronic filing requirements, effective August 5, 2011. Information on help using ACCESS can be found at https://access.trade.gov/help.aspx and a handbook can be found at https://access.trade.gov/help/Handbook%20on%20Electronic%20Filling%20Procedures.pdf.

Comments on Product Characteristics for AD Questionnaires

Commerce is providing interested parties an opportunity to comment on the appropriate physical characteristics of sodium sulfate to be reported in response to Commerce's AD questionnaires. This information will be used to identify the key physical characteristics of the merchandise under consideration in order to report the relevant costs of production accurately as well as to develop appropriate product-comparison criteria.

Interested parties may provide any information or comments that they feel are relevant to the development of an accurate list of physical characteristics. Specifically, they may provide comments as to which characteristics are appropriate to use as: (1) General product characteristics; and (2) product-comparison criteria. We note that it is not always appropriate to use all product characteristics as product comparison criteria. We base product comparison criteria on meaningful commercial differences among products. In other words, although there may be some physical product characteristics utilized by manufacturers to describe sodium sulfate, it may be that only a select few product characteristics take into account commercially meaningful physical characteristics. In addition, interested parties may comment on the order in which the physical characteristics should be used in matching products. Generally, Commerce attempts to list the most important physical characteristics first and the least important characteristics last.

In order to consider the suggestions of interested parties in developing and issuing the AD questionnaires, all product characteristics comments must be filed by 5:00 p.m. ET on May 7, 2019, which is 20 calendar days from the signature date of this notice.¹² Any rebuttal comments must be filed by 5:00 p.m. ET on May 17, 2019. All comments and submissions to Commerce must be filed electronically using ACCESS, as explained above.

¹² See 19 CFR 351.303(b).

Determination of Industry Support for the Petition

Section 732(b)(1) of the Act requires that a petition be filed on behalf of the domestic industry. Section 732(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) Poll the industry or rely on other information in order to determine if there is support for the petition, as required by subparagraph (A); or (ii) determine industry support using a statistically valid sampling method to poll the “industry.”

Section 771(4)(A) of the Act defines the “industry” as the producers, as a whole, of a domestic like product. Thus, to determine whether a petition has the requisite industry support, the statute directs Commerce to look to producers and workers who produce the domestic like product. The International Trade Commission (ITC), which is responsible for determining whether “the domestic industry” has been injured, must also determine what constitutes a domestic like product in order to define the industry. While both Commerce and the ITC must apply the same statutory definition regarding the domestic like product,¹³ they do so for different purposes and pursuant to a separate and distinct authority. In addition, Commerce's determination is subject to limitations of time and information. Although this may result in different definitions of the like product, such differences do not render the decision of either agency contrary to law.¹⁴

¹³ See section 771(10) of the Act.

¹⁴ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioners do not offer a definition of the domestic like product distinct from the scope of the Petition.¹⁵ Based on our analysis of the information submitted on the record, we have determined that sodium sulfate, as defined in the scope, constitutes a single domestic like product, and we have analyzed industry support in terms of that domestic like product.¹⁶

¹⁵ See Volume I of the Petition, at 11-14; see also General Issues and AD Supplement, at 1 and Exhibit 1.

¹⁶ For a discussion of the domestic like product analysis as applied to this case and information regarding industry support, see Antidumping Duty Investigation Initiation Checklist: Sodium Sulfate Anhydrous from Canada (AD Initiation Checklist), at Attachment II, Analysis of Industry Support for the Antidumping Duty Petition Covering Sodium Sulfate Anhydrous from Canada (Attachment II). This checklist is dated concurrently with this notice and on file electronically via ACCESS. Access to documents filed via ACCESS is also available in the Central Records Unit, Room B8024 of the main Department of Commerce building.

In determining whether the petitioners have standing under section 732(c)(4)(A) of the Act, we considered the industry support data contained in the Petition with reference to the domestic like product as defined in the “Scope of the Investigation,” in the Appendix to this notice. To establish industry support, the petitioners provided their own production of the domestic like product in 2018.¹⁷ The petitioners compared their own production to the estimated total production of the domestic like product for the entire domestic industry.¹⁸ We relied on data the petitioners provided for purposes of measuring industry support.¹⁹

¹⁷ See Volume I of the Petition, at 4 and Exhibit 1.

¹⁸ See Volume I of the Petition, at 4 and Exhibit 1; see also General Issues and AD Supplement, at 2-3 and Exhibit 3; see also Second General Issues and AD Supplement, at 1 and Exhibit 8.

¹⁹ See Volume I of the Petition, at 4 and Exhibit 1; see also Second General Issues and AD Supplement, at 1 and Exhibit 8. For further discussion, see Attachment II of the AD Initiation Checklist.

Our review of the data provided in the Petition, the General Issues and AD Supplement, the Second General Issues and AD Supplement, and other information readily available to Commerce indicates that the petitioners have established industry support for the Petition.²⁰ First, the Petition established support from domestic producers (or workers) accounting for more than 50 percent of the total production of the domestic like product and, as such, Commerce is not required to take further action in order to evaluate industry support (e.g., polling).²¹ Second, the domestic producers (or workers) have met the statutory criteria for industry support under section 732(c)(4)(A)(i) of the Act, because the domestic producers (or workers) who support the Petition account for at least 25 percent of the total production of the domestic like product.²² Finally, the domestic producers (or workers) have met the statutory criteria for industry support under section 732(c)(4)(A)(ii) of the Act, because the domestic producers (or workers) who support the Petition account for more than 50 percent of the production of the domestic like product produced by that portion of the industry expressing support for, or opposition to, the Petition.²³ Accordingly, Commerce determines that the Petition was filed on behalf of the domestic industry within the meaning of section 732(b)(1) of the Act.

²⁰ See Attachment II of the AD Initiation Checklist.

²¹ Id.; see also section 732(c)(4)(D) of the Act.

²² See Attachment II of the AD Initiation Checklist.

²³ Id.

Allegations and Evidence of Material Injury and Causation

The petitioners allege that the U.S. industry producing the domestic like product is being materially injured, or is threatened with material injury, by reason of the imports of the subject merchandise sold at LTFV. In addition, the petitioners allege that subject imports exceed the negligibility threshold provided for under section 771(24)(A) of the Act.²⁴

²⁴ See Volume I of the Petition, at 19 and Exhibit 15.

The petitioners contend that the industry's injured condition is illustrated by a significant and increasing volume of subject imports; increased market share of subject imports; underselling and price depression or suppression; lost sales and revenues; the magnitude of the alleged dumping margins; and a decline in the domestic industry's U.S. shipments and financial performance.²⁵ We have assessed the allegations and supporting evidence regarding material injury, threat of material injury, causation, as well as negligibility, and we have determined that these allegations are properly supported by adequate evidence, and meet the statutory requirements for initiation.²⁶

²⁵ See Volume I of the Petition, at 15-30 and Exhibits 4 and 7 through 13.

²⁶ See Canada AD Initiation Checklist, at Attachment III, Analysis of Allegations and Evidence of Material Injury and Causation for the Antidumping Duty Petition Covering Sodium Sulfate Anhydrous from Canada (Attachment III).

Allegations of Sales at Less Than Fair Value

The following is a description of the allegations of sales at LTFV upon which Commerce based its decision to initiate an AD investigation of imports of sodium sulfate from Canada. The sources of data for the deductions and adjustments relating to U.S. price and normal value (NV) are discussed in greater detail in the initiation checklist.

Export Price

The petitioners based EP on pricing information for sodium sulfate produced in, and exported from, Canada and sold or offered for sale in the United States.²⁷ Where appropriate, the petitioners made deductions from U.S. price for foreign brokerage and handling, rail hopper car leasing expenses, and U.S. inland freight, consistent with the terms of sale.²⁸

²⁷ See Canada AD Initiation Checklist.

²⁸ Id.

Normal Value

The petitioners based NV on a home market price they obtained for sodium sulfate produced and sold in Canada during the POI.²⁹ The petitioners calculated a net home market price, adjusted for freight expenses, consistent with the terms of sale.³⁰ The petitioners provided information indicating that the home market price was below the cost of production (COP) and, therefore, the petitioners also calculated NV based on constructed value (CV), pursuant to section 773(a)(4) of the Act.³¹

²⁹ Id.

³⁰ Id.

³¹ In accordance with section 773(b)(2) of the Act, for this investigation, Commerce will request information necessary to calculate the CV and cost of production (COP) to determine whether there are reasonable grounds to believe or suspect that sales of the foreign like product have been made at prices that represent less than the COP of the product.

Normal Value Based on Constructed Value

Pursuant to section 773(e) of the Act, CV consists of the cost of manufacturing (COM), selling, general and administration (SG&A) expenses, financial expenses, packing and profit.

The petitioners calculated the COM based on a domestic producer's input factors of production and usage rates for raw materials, labor, energy and factory overhead. The petitioners valued the input factors of production using publicly available data on costs specific to Canada during the POI. Specifically, the petitioners calculated raw material cost as the mineral royalty rate paid for extracting lake brine.³² The petitioners valued labor and energy costs using publicly available sources for Canada.³³ The petitioners calculated factory overhead based on a U.S. producer's experience. The petitioners calculated SG&A expenses, financial expenses, and profit for Canada based on the experience of a Canadian producer of comparable merchandise (i.e., potash).³⁴

³² See Canada AD Initiation Checklist.

³³ Id.

³⁴ Id.

Fair Value Comparisons

Based on the data provided by the petitioners, there is reason to believe that imports of sodium sulfate from Canada are being, or are likely to be, sold in the United States at LTFV. Based on comparisons of EP to NV in accordance with sections 772 and 773 of the Act, the estimated dumping margins for sodium sulfate from Canada range from 43.37 to 170.08 percent.³⁵

³⁵ See Canada AD Initiation Checklist.

Initiation of LTFV Investigation

Based upon the examination of the Petition and supplements to the Petition, we find that the Petition meets the requirements of section 732 of the Act. Therefore, we are initiating an AD investigation to determine whether imports of sodium sulfate from Canada are being, or are likely to be, sold in the United States at LTFV. In accordance with section 733(b)(1)(A) of the Act and 19 CFR 351.205(b)(1), unless postponed, we will make our preliminary determination no later than 140 days after the date of this initiation.

Identification of Respondents

The petitioners named two producers of sodium sulfate in Canada (i.e., Saskatchewan Mining and Minerals Inc. (SSM) and TODA Advanced Materials, Inc. (TODA)).³⁶ Following standard practice in AD investigations involving market economy countries, if necessary, Commerce intends to select respondents based on U.S. Customs and Border Protection (CBP) data for U.S. imports under the appropriate HTSUS numbers listed with the “Scope of the Investigation,” in the Appendix.

³⁶ See Volume 2 of the Petition at 3.

On April 15, 2019, Commerce released CBP data on imports of sodium sulfate from Canada under APO to all parties with access to information protected by APO and indicated that interested parties wishing to comment on the CBP data must do so within three business days of the publication date of the notice of initiation of this investigation.³⁷ We further stated that we will not accept rebuttal comments.

³⁷ See Memoranda, “Less-Than-Fair-Value Investigation of Sodium Sulfate Anhydrous from Canada: Release of U.S. Customs and Border Protection Data,” dated April 16, 2019.

Distribution of Copies of the Petition

In accordance with section 732(b)(3)(A) of the Act and 19 CFR 351.202(f), copies of the public version of the Petition have been provided to the Government of Canada via ACCESS. To the extent practicable, we will attempt to provide a copy of the public version of the Petition to each exporter named in the Petition, as provided under 19 CFR 351.203(c)(2).

ITC Notification

We will notify the ITC of our initiation, as required by section 732(d) of the Act.

Preliminary Determinations by the ITC

The ITC will preliminarily determine, within 45 days after the date on which the Petition was filed, whether there is a reasonable indication that imports of sodium sulfate from Canada are materially injuring, or threatening material injury to, a U.S. industry.³⁸ A negative ITC determination will result in the investigation being terminated.³⁹ Otherwise, the investigation will proceed according to statutory and regulatory time limits.

³⁸ See section 733(a) of the Act.

³⁹ Id.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). 19 CFR 351.301(b) requires any party, when submitting factual information, to specify under which subsection of 19 CFR 351.102(b)(21) the information is being submitted ⁴⁰ and, if the information is submitted to rebut, clarify, or correct factual information already on the record, to provide an explanation identifying the information already on the record that the factual information seeks to rebut, clarify, or correct.⁴¹ Time limits for the submission of factual information are addressed in 19 CFR 351.301, which provides specific time limits based on the type of factual information being submitted. Interested parties should review the regulations prior to submitting factual information in this investigation.

⁴⁰ See 19 CFR 351.301(b).

⁴¹ See 19 CFR 351.301(b)(2).

Particular Market Situation Allegation

Section 504 of the Trade Preferences Extension Act of 2015 amended the Act by adding the concept of particular market situation (PMS) for purposes of CV under section 773(e) of the Act.⁴² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

⁴² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of a respondent's initial section D questionnaire response.

Extensions of Time Limits

Parties may request an extension of time limits before the expiration of a time limit established under 19 CFR 351.301, or as otherwise specified by the Secretary. In general, an extension request will be considered untimely if it is filed after the expiration of the time limit established under 19 CFR 351.301. For submissions that are due from multiple parties simultaneously, an extension request will be considered untimely if it is filed after 10:00 a.m. ET on the due date. Under certain circumstances, we may elect to specify a different time limit by which extension requests will be considered untimely for submissions which are due from multiple parties simultaneously. In such a case, we will inform parties in a letter or memorandum setting forth the deadline (including a specified time) by which extension requests must be filed to be considered timely. An extension request must be made in a separate, stand-alone submission; under limited circumstances we will grant untimely filed requests for the extension of time limits. Parties should review Extension of Time Limits; Final Rule, 78 FR 57790 (September 20, 2013), available at http://www.gpo.gov/fdsys/pkg/FR-2013-09-20/html/2013-22853.htm, prior to submitting factual information in this investigation.

Certification Requirements

Any party submitting factual information in an AD or CVD proceeding must certify to the accuracy and completeness of that information.⁴³ Parties must use the certification formats provided in 19 CFR 351.303(g).⁴⁴ Commerce intends to reject factual submissions if the submitting party does not comply with the applicable revised certification requirements.

⁴³ See section 782(b) of the Act.

⁴⁴ See also Certification of Factual Information to Import Administration During Antidumping and Countervailing Duty Proceedings, 78 FR 42678 (July 17, 2013) (Final Rule). Answers to frequently asked questions regarding the Final Rule are available at http://enforcement.trade.gov/tlei/notices/factual_info_final_rule_FAQ_07172013.pdf.

Notification to Interested Parties

Interested parties must submit applications for disclosure under APO in accordance with 19 CFR 351.305. On January 22, 2008, Commerce published Antidumping and Countervailing Duty Proceedings: Documents Submission Procedures; APO Procedures, 73 FR 3634 (January 22, 2008). Parties wishing to participate in this investigation should ensure that they meet the requirements of these procedures (e.g., the filing of letters of appearance as discussed at 19 CFR 351.103(d)).

This notice is issued and published pursuant to sections 732(c)(2) and 777(i) of the Act, and 19 CFR 351.203(c).

Dated: April 17, 2019.
Jeffrey I. Kessler,
Assistant Secretary for Enforcement and Compliance.

Appendix—Scope of the Investigation

The scope of this investigation covers sodium sulfate (Na2SO4) (Chemical Abstracts Service (CAS) Number 7757-82-6) that is anhydrous (i.e., containing no water), regardless of purity, grade, color, production method, and form of packaging, in which the percentage of particles between 20 mesh and 100 mesh, based on U.S. mesh series screens, ranges from 10-95% and the percentage of particles finer than 100 mesh, based on U.S. mesh series screens, ranges from 5-90%.

Excluded from the scope of this investigation are specialty sodium sulfate anhydrous products, which are products whose particle distributions fall outside the described ranges. Glauber's salt (Na2SO4·10H2O), also known as sodium sulfate decahydrate, an intermediate product in the production of sodium sulfate anhydrous that has no known commercial uses, is not included within the scope of the investigation, although some end-users may mistakenly refer to sodium sulfate anhydrous as Glauber's salt. Other forms of sodium sulfate that are hydrous (i.e., containing water) are also excluded from the scope of the investigation.

The merchandise subject to this investigation is classifiable under Harmonized Tariff Schedule of the United States (HTSUS) subheading 2833.11.5010. Subject merchandise may also be classified under 2833.11.1000, 2833.11.5050, and 2833.19.0000. Although the HTSUS subheadings and CAS registry number are provided for convenience and customs purposes, the written description of the scope of the investigation is dispositive.

[FR Doc. 2019-08272 Filed 4-23-19; 8:45 am]

BILLING CODE 3510-DS-P